SECURITIES AND EXCHANGE COMMISSION

[SEC File No. 270-101, OMB Control No. 3235-0082]

Proposed Collection; Comment Request; Extension: Form 11-K

Upon Written Request Copies Available From: Securities and Exchange Commission, Office of FOIA Services, 100 F Street NE, Washington, DC 20549-2736.

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form 11-K (17 CFR 249.311) is the annual report designed for use by employee stock purchase, savings, and similar plans to comply with the reporting requirements under Section 15(d) of the Securities and Exchange Act of 1934 (the “Exchange Act”) (15 U.S.C. 78o(d)). Section 15(d) establishes a periodic reporting obligation for every issuer of a class of securities registered under the Securities Act of 1933 (the “Securities Act”) (15 U.S.C. 77a et seq.). Form 11-K provides employees of an issuer with financial information so that they can assess the performance of the investment vehicle or stock plan. We estimate that Form 11-K requires approximately internal 95.81 burden hours per response and that there is an average of approximately 941 Form 11-K filings annually for a total of 90,157 internal burden hours annually (95.81 hours per response × 941 responses). We also estimate that Form 11-K requires a cost of approximately $7,525 per response for a total annual cost burden of $7,081,025 ($7,525 per response × 941 responses).

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication by March 17, 2025.

An agency may not conduct or sponsor, and a person is not required to respond to, a collection of information unless it displays a currently valid control number.

Please direct your written comment to Austin Gerig, Director/Chief Data Officer, Securities and Exchange Commission, c/o Tanya Ruttenberg, 100 F Street NE, Washington, DC 20549 or send an email to: PRA_Mailbox@sec.gov.

Dated: January 8, 2025.
Vanessa A. Countryman,
Secretary.

[FR Doc. 2025-00665 Filed 1-14-25; 8:45 am]

BILLING CODE 8011-01-P